NUCLEAR REGULATORY COMMISSION

Sunshine Act Meeting

AGENCY HOLDING THE MEETING: Nuclear Regulatory Commission.

DATE: Weeks of May 1, 8, 15, 22, 29, and June 5, 2000.

PLACE: Commissioners' Conference Room, 11555 Rockville Pike, Rockville, Maryland.

STATUS: Public and Closed.

Matters to be Considered:

Week of May 1

Tuesday, May 2

9:30 a.m.

Briefing on Oconee License Renewal (Public Meeting) (Contact: Dave Lange, 301-415-1730)

Wednesday, May 3

9:25 a.m.

Affirmation Session (Public Meeting)

a: Final Rule: Revision of Part 50, Appendix K, “ECCS Evaluation Models”

b: GPU NUCLEAR, INC., Docket No. 50-219-LT; Petition to Intervene

9:30 a.m.

Briefing on Efforts Regarding Release of Solid Material (Public Meeting) (Contact: Frank Cardile, 301-415-6185)

Week of May 8—Tentative

Monday, May 8

10:00 a.m.

Briefing on Lessons Learned from the Nuclear Criticality Accident at Tokai-Mura and the implications on the NCR's Program (Public Meeting) (Contact: Bill Troskoski, 301-415-8076)

Tuesday, May 9

8:55 a.m.

Affirmation Session (Public Meeting) (If needed)

9:00 a.m.

Meeting with Stakeholders on Efforts Regarding Release of Solid Material (Public Meeting) (Contact: Frank Cardile, 301-415-6185)

Week of May 15—Tentative

Tuesday, May 16

9:25 a.m.

Affirmation Session (Public Meeting) (If needed)

Week of May 22—Tentative

Thursday, May 25

8:30 a.m.

Briefing on Operating Reactors and Fuel Facilities (Public Meeting) (Contact: Joe Shea, 301-415-1727)

10:15 a.m.

Briefing on Status of Regional Programs, Performance and Plans (Public Meeting) (Contact: Joe Shea, 301-415-1727)

1:30 p.m.

Briefing on Improvements to 2.206 Process (Public Meeting)

Week of May 29—Tentative

Tuesday, May 30

9:25 a.m.

Affirmation Session (Public Meeting) (If Needed)

Week of June 5

There are no meetings scheduled for the Week of June 5.

The schedule for Commission meetings is subject to change on short notice. To verify the status of meetings call (recording)—(301)—415-1292.

CONTACT PERSONS FOR MORE INFORMATION: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary Attn: Operations Branch, Washington, D.C. 20555 (301-415-1661). In addition, distribution of this meeting notice over the Internet system is available. If you are interested in receiving this Commission meeting schedule electronically, please send an electronic message to whm@nrc.gov or dkw@nrc.gov.

Dated: April 28, 2000.
William M. Hill, Jr.,
Secy Tracking Officer, Office of the Secretary.

[FR Doc. 00-11012 Filed 4-28-00; 2:18 pm]

BILLING CODE 7590-01-M